DEPARTMENT OF TRANSPORTATION

Federal Aviation Administration

14 CFR Part 39

[Docket No. FAA-2016-7026; Directorate Identifier 2016-CE-016-AD; Amendment 39-18620; AD 2016-17-07]

RIN 2120-AA64

Airworthiness Directives; PILATUS Aircraft Ltd. Airplanes

AGENCY: Federal Aviation Administration (FAA), Department of Transportation (DOT).

ACTION: Final rule.

SUMMARY: We are adopting a new airworthiness directive (AD) for PILATUS Aircraft Ltd. Model PC-7 airplanes. This AD results from mandatory continuing airworthiness information (MCAI) issued by an aviation authority of another country to identify and correct an unsafe condition on an aviation product. The MCAI describes the unsafe condition as stress corrosion cracking on the main frame on frame 11 left and right fittings. We are issuing this AD to require actions to address the unsafe condition on these products.

DATES: This AD is effective September 30, 2016.

The Director of the Federal Register approved the incorporation by reference of a certain publication listed in the AD as of September 30, 2016.

ADDRESSES: You may examine the AD docket on the Internet at http://www.regulations.gov by searching for and locating Docket No. FAA-2016-7026; or in person at Document Management Facility, U.S. Department of Transportation, Docket Operations, M-30, West Building Ground Floor, Room W12-140, 1200 New Jersey Avenue SE., Washington, DC 20590.

For service information identified in this AD, contact PILATUS Aircraft Ltd., Customer Technical Support (MCC), P.O. Box 992, CH-6371 Stans, Switzerland; phone: +41 (0)41 619 67 74; fax: +41 (0)41 619 67 73; email: techsupport@pilatus-aircraft.com; Internet: http://www.pilatus-aircraft.com. You may view this referenced service information at the FAA, Small Airplane Directorate, 901 Locust, Kansas City, Missouri 64106. For information on the availability of this material at the FAA, call (816) 329-4148. It is also available on the Internet at http://www.regulations.gov by searching for Docket No. FAA-2016-7026.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Discussion

We issued a notice of proposed rulemaking (NPRM) to amend 14 CFR part 39 by adding an AD that would apply to PILATUS Aircraft Ltd. Model PC-7 airplanes. The NPRM was published in the Federal Register on June 9, 2016 (81 FR 37166). The NPRM proposed to correct an unsafe condition for the specified products and was based on mandatory continuing airworthiness information (MCAI) originated by an aviation authority of another country. The MCAI states:

This Airworthiness Directive (AD) is prompted due to a report of Stress Corrosion Cracking (SCC) on the Main Frame on Frame (FR) 11 left fitting Part Number (P/N) 112.35.07.489 and right fitting P/N 112.35.07.490.

Such a condition, if left uncorrected, could lead to potential loss of the horizontal stabilizer.

In order to correct and control the situation, this AD requires a one-time check to identify the material specification and inspect the affected areas of the airframe that are made of aluminum alloy AA2024-T351. Any structural parts of the aircraft structure found to be cracked must be reported to Pilatus prior to further flight.

The MCAI can be found in the AD docket on the Internet at: https://www.regulations.gov/document?D=FAA-2016-7026-0002.

Comments

We gave the public the opportunity to participate in developing this AD. We received no comments on the NPRM (81 FR 37166, June 9, 2016) or on the determination of the cost to the public.

Conclusion

We reviewed the relevant data and determined that air safety and the public interest require adopting the AD as proposed except for minor editorial changes. We have determined that these minor changes:

• Are consistent with the intent that was proposed in the NPRM (81 FR 37166, June 9, 2016) for correcting the unsafe condition; and

• Do not add any additional burden upon the public than was already proposed in the NPRM (81 FR 37166, June 9, 2016).

Related Service Information Under 1 CFR Part 51

We reviewed PILATUS Aircraft Ltd. PC-7 Service Bulletin No: 53-013; and PILATUS Aircraft Ltd. PC-7 Service Bulletin No: 53-014, both dated February 25, 2016. PILATUS Aircraft Ltd. PC-7 Service Bulletin No: 53-013, dated February 25, 2016, describes procedures for initial and repetitive inspection of the main frame FR11 left and right fittings for stress corrosion cracking; and PILATUS Aircraft Ltd. PC-7 Service Bulletin No: 53-014, dated February 25, 2016, describes procedures for replacement of the main frame FR11 left and right fittings when necessary. This service information is reasonably available because the interested parties have access to it through their normal course of business or by the means identified in the ADDRESSES section of the AD.

Costs of Compliance

We estimate that this AD will affect 19 products of U.S. registry. We also estimate that it would take about 3 work-hours per product to check the material specification of the fittings and 11 work-hours per product to inspect the 2014-T351 fittings as required in order to comply with the basic requirements of this AD. The average labor rate is $85 per work-hour.

Based on these figures, we estimate the cost of this AD on U.S. operators to be $17,765, or $935 per product.

In addition, we estimate that any necessary follow-on actions would take about 19 work-hours and require parts costing $5,000 for a cost of $6,615 per product. We have no way of determining the number of products that may need these actions.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2016-7026; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2016-17-07 PILATUS Aircraft Ltd.: Amendment 39-18620; Docket No. FAA-2016-7026; Directorate Identifier 2016-CE-016-AD.

(a) Effective Date

This airworthiness directive (AD) becomes effective September 30, 2016.

(b) Affected ADs

None.

(c) Applicability

This AD applies to PILATUS Aircraft Ltd. Model PC-7 airplanes, manufacturer serial numbers (MSN) 101 through 618, certificated in any category.

(d) Subject

Air Transport Association of America (ATA) Code 53: Fuselage.

(e) Reason

This AD was prompted by mandatory continuing airworthiness information (MCAI) originated by an aviation authority of another country to identify and correct an unsafe condition on an aviation product. The MCAI describes the unsafe condition as stress corrosion cracking on the main frame on frame 11 left and right fittings, which can cause potential loss of the horizontal stabilizer. We are issuing this proposed AD to detect and correct stress corrosion cracking on the frame 11 left and right fittings.

(f) Actions and Compliance

Unless already done, do the actions in paragraphs (f)(1) through (4) of this AD:

(1) Within the next 120 days after September 30, 2016 (the effective date of this AD), check the material specification of the Frame (FR) 11 left fitting part number (P/N) 112.35.07.489 and the FR 11 right fitting P/N 112.35.07.490 following the Accomplishment Instructions in paragraph 3.B. of PILATUS Aircraft Ltd. PC-7 Service Bulletin No: 53-013, dated February 25, 2016.

(2) If fittings made of aluminum alloy AA2124-T851 are found during the inspection required by paragraph (f)(1) of this AD, within 30 days after the inspection or within the next 30 days after September 30, 2016 (the effective date of this AD), whichever occurs later, report the inspection results following the reporting requirements in paragraph 3.D. of PILATUS Aircraft Ltd. PC-7 Service Bulletin No: 53-013, dated February 25, 2016.

(3) If fittings made of aluminum alloy AA2024-T351 are found during the inspection required by paragraph (f)(1) of this AD, before further flight, and repetitively thereafter at intervals not to exceed 12 months, inspect FR 11 left fitting, P/N 112.35.07.489 and the FR 11 right fitting, P/N 112.35.07.490, for cracks following the Accomplishment Instructions in paragraph 3.C. of PILATUS Aircraft Ltd. PC-7 Service Bulletin No: 53-013, dated February 25, 2016.

(4) If cracks are found during any inspection required in paragraph (f)(3) of this AD, before further flight, replace the fittings following the Accomplishment Instructions in paragraph 3 of PILATUS Aircraft Ltd. PC-7 Service Bulletin No: 53-014, dated February 25, 2016.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to Federal Office of Civil Aviation (FOCA) AD HB-2016-001, dated May 17, 2016, for related information. The MCAI can be found in the AD docket on the Internet at: https://www.regulations.gov/document?D=FAA-2016-7026-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) PILATUS Aircraft Ltd. PC-7 Service Bulletin No: 53-013; dated February 25, 2016; and

(ii) PILATUS Aircraft Ltd. PC-7 Service Bulletin No: 53-014, dated February 25, 2016.

(3) For PILATUS Aircraft Ltd. service information identified in this AD, contact PILATUS Aircraft Ltd., Customer Technical Support (MCC), P.O. Box 992, CH-6371 Stans, Switzerland; phone: +41 (0)41 619 67 74; fax: +41 (0)41 619 67 73; email: techsupport@pilatus-aircraft.com; Internet: http://www.pilatus-aircraft.com.

(4) You may view this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on August 17, 2016.
Pat Mullen,
Acting Manager, Small Airplane Directorate, Aircraft Certification Service.

[FR Doc. 2016-20074 Filed 8-25-16; 8:45 am]

BILLING CODE 4910-13-P